DEPARTMENT OF ENERGY

Federal Energy Regulatory Commission

[Docket No. EG01-282-000, et al.]

Energy Azteca X, S. de R.L. de C.V., et al.; Electric Rate and Corporate Regulation Filings

August 27, 2001.

Take notice that the following filings have been made with the Commission:

1. Energía Azteca X, S. de R.L. de C.V.

[Docket No. EG01-282-000]

Take notice that on August 23, 2001, Energia Azteca X, S. de R.L. de C.V. (Applicant), filed with the Federal Energy Regulatory Commission (Commission) an application for determination of exempt wholesale generator status pursuant to Part 365 of the Commission's regulations.

Applicant proposes to own or operate, or both own and operate, an electric generating facility with a capacity of approximately 750 megawatts (along with certain appurtenant interconnected transmission facilities and an adjacent sewage treatment plant to supply water to the facility), located just outside the city of Mexicali in the state of Baja California, Mexico. All output from the facility will be sold by Applicant at wholesale.

Comment date: September 17, 2001, in accordance with Standard Paragraph E at the end of this notice. The Commission will limit its consideration of comments to those that address the adequacy or accuracy of the application.

2. Intergen Aztec Energy III, B.V.

[Docket No. EG01-283-000]

Take notice that on August 23, 2001, InterGen Aztec Energy III, B.V. (Applicant), filed with the Federal Energy Regulatory Commission (Commission) an application for determination of exempt wholesale generator status pursuant to Part 365 of the Commission's regulations.

Applicant proposes to own or operate, or both own and operate, natural gas-fired electric generation facilities with an aggregate capacity of approximately 1,060 megawatts (along with certain appurtenant interconnected transmission facilities and an adjacent sewage treatment plant to supply water to the facilities), located near the city of Mexicali in the state of Baja California, Mexico. All output from the facilities will be sold exclusively at wholesale.

Comment date: September 17, 2001, in accordance with Standard Paragraph E at the end of this notice. The Commission will limit its consideration of comments to those that address the adequacy or accuracy of the application.

3. Energia de Baja California, S. de R.L. de C.V.

[Docket No. EG01-284-000]

Take notice that on August 23, 2001, Energia de Baja California, S. de R.L. de C.V. (Applicant), filed with the Federal Energy Regulatory Commission (Commission) an application for determination of exempt wholesale generator status pursuant to Part 365 of the Commission's regulations.

Applicant will own or operate, or both own and operate, an electric generation facility with a capacity of approximately 310 megawatts (along with certain appurtenant interconnected transmission facilities and an adjacent sewage treatment plant) located near the city of Mexicali in the state of Baja California. All output from the facility will be sold exclusively by Applicant at wholesale.

Comment date: September 17, 2001, in accordance with Standard Paragraph E at the end of this notice. The Commission will limit its consideration of comments to those that address the adequacy or accuracy of the application.

4. Carolina Power & Light Company

[Docket No. ER01-2301-001]

Take notice that on August 22, 2001, Carolina Power & Light Company (CP&L) filed an amendment in the above-captioned proceeding. By the amendment, CP&L proposes to: (1) Establish a separate market-based rate tariff identical to that filed on June 14, 2001 in this proceeding (the EEI Tariff); and (2) revise its existing market-based rate tariff (the Non-EEI Tariff). In addition, CP&L requests that nine service agreements that CP&L has filed be accepted and redesignated under its EEI Tariff. The nine customers for these service agreements include Aquila Energy Marketing Corporation, Washington Gas Energy Services, Inc., Dynegy Power Marketing, Inc., CMS Marketing, Services and Trading Company, Ameren Energy, Inc., American Electric Power Service Corporation, Williams Energy Marketing & Trading Company, Axia Energy, LP and Enron Power Marketing, LLC.

Copies of the filing were served upon the official service list in this proceeding, CP&L's market-based rates customers, the North Carolina Utilities Commission and the South Carolina Public Service Commission.

Comment date: September 13, 2001, in accordance with Standard Paragraph E at the end of this notice.

5. Allegheny Energy Service Corporation, on behalf of Monongahela Power Company, The Potomac Edison Company, and West Penn Power Company (Allegheny Power)

[Docket No. ER01-2902-000]

Take notice that on August 22, 2001, Allegheny Energy Service Corporation on behalf of Monongahela Power company, The Potomac Edison Company and West Penn Power Company (Allegheny Power), submitted a Notice of Cancellation of Service Agreement No. 123 with Engage Energy US, L.P., a customer under Allegheny Power's Open Access Transmission Service Tariff. Allegheny Power has requested a waiver of notice to allow the cancellation to be effective August 8, 2001.

Copies of this filing have been provided to the Public Utilities Commission of Ohio, the Pennsylvania Public Utility Commission, the Maryland Public Service Commission, the Virginia State Corporation Commission, and the West Virginia Public Service Commission.

Comment date: September 13, 2001, in accordance with Standard Paragraph E at the end of this notice.

6. Tenaska Gateway Partners, Ltd.

[Docket No. ER01-2903-000]

Take notice that on August 22, 2001, Tenaska Gateway Partners, Ltd., 1044 North 115 Street, Suite 400, Omaha, Nebraska 68154 (Tenaska Gateway), filed with the Federal Energy Regulatory Commission the Power Purchase Agreement between Tenaska Gateway and Coral Power, L.L.C. and Coral Energy, L.P. (jointly “Coral”) dated as of August 20, 1999 (PPA). The filing is made pursuant to Tenaska Gateway's authority to sell power at market-based rates under its Market-Based Rate Tariff, Rate Schedule FERC No. 1, Original Volume No. 1, approved by the Commission on July 14, 1999 in Docket No. ER99-2992-000.

Comment date: September 13, 2001, in accordance with Standard Paragraph E at the end of this notice.

7. Xcel Energy Services Inc.

[Docket No. ER01-2905-000]

Take notice that on August 22, 2001, Xcel Energy Services Inc., on behalf of Public Service Company of Colorado (PSCo), submitted for filing an interconnection agreement between PSCo and Plains End, LLC.

Comment date: September 13, 2001, in accordance with Standard Paragraph E at the end of this notice.

8. American Electric Power Service Corporation

[Docket No. ER01-2906-000]

Take notice that on August 22, 2001, the American Electric Power Service Corporation (AEPSC), tendered for filing executed ERCOT Ancillary Services Agreements for Calpine Energy Services, L.P., as agent for Calpine Construction Finance Company, L.P. and for Calpine Energy Services, L.P., as Designated Agent for Magic Valley Electric Cooperative, Inc., Both of these agreements are pursuant to the AEP Companies' Open Access Transmission Service Tariff (OATT) that has been designated as the Operating Companies of the American Electric Power System FERC Electric Tariff Second Revised Volume No. 6. AEPSC requests waiver of notice to permit the Service Agreements to be made effective for service on and after July 23, 2001.

A copy of the filing was served upon the Parties and the state utility regulatory commissions of Arkansas, Indiana, Kentucky, Louisiana, Michigan, Ohio, Oklahoma, Tennessee, Texas, Virginia and West Virginia.

Comment date: September 13, 2001, in accordance with Standard Paragraph E at the end of this notice.

9. Cinergy Services, Inc.

[Docket No. ER01-2907-000]

Take notice that on August 22, 2001, Cinergy Services, Inc. on behalf of its Operating Company affiliates, The Cincinnati Gas & Electric Company and PSI Energy, Inc. (COC) submits for filing an executed service agreement between COC and The Detroit Edison Company (Detroit) replacing the unexecuted service agreement filed on May 8, 1997 under Docket No. ER97-2922-000 per COC FERC Electric Market-Based Power Sales Tariff, Original Volume No. 7-MB.

COC is requesting an effective date of May 9, 1997 and the same Rate Designation as per the original filing.

Comment date: September 13, 2001, in accordance with Standard Paragraph E at the end of this notice.

10. Cinergy Services, Inc.

[Docket No. ER01-2908-000]

Take notice that on August 22, 2001, Cinergy Services, Inc. on behalf of its Operating Company affiliates, The Cincinnati Gas & Electric Company and PSI Energy, Inc. (COC) submits for filing an executed service agreement between COC and Wabash Valley Power Association (WVPA) replacing the unexecuted service agreement filed on October 25, 1997 under Docket No. ER98-847-000 per COC FERC Electric Market-Based Power Sales Tariff, Original Volume No. 7-MB.

COC is requesting an effective date of October 29, 1997 and the same Rate Designation as per the original filing.

Comment date: September 13, 2001, in accordance with Standard Paragraph E at the end of this notice.

11. Cinergy Services, Inc.

[Docket No. ER01-2909-000]

Take notice that on August 22, 2001, Cinergy Services, Inc. (Cinergy) tendered for filing a Notice of Name Change from Coastal Merchant Energy, L.P. to El Paso Merchant Energy, L.P. Cinergy respectfully requests waiver of notice to permit the Notice of Name Change to be made effective as of the date of the Notice of Name Change.

A copy of the filing was served upon El Paso Merchant Energy, L.P.

Comment date: September 13, 2001, in accordance with Standard Paragraph E at the end of this notice.

12. Cinergy Services, Inc.

[Docket No. ER01-2910-000]

Take notice that on August 22, 2001, Cinergy Services, Inc. (Cinergy) tendered for filing a Notice of Name Change from FirstEnergy Trading & Marketing Inc. to FirstEnergy Services Corp. Cinergy respectfully requests waiver of notice to permit the Notice of Name Change to be made effective as of the date of the Notice of Name Change.

A copy of the filing was served upon FirstEnergy Services Corp.

Comment date: September 13, 2001, in accordance with Standard Paragraph E at the end of this notice.

13. Cinergy Services, Inc.

[Docket No. ER01-2911-000]

Take notice that on August 22, 2001, Cinergy Services, Inc. (Cinergy) tendered for filing a Service Agreement under Cinergy's Resale, Assignment or Transfer of Transmission Rights and Ancillary Service Rights Tariff (the Tariff) entered into between Cinergy and The Detroit Edison Company (Detroit). This Service Agreement has been executed by both parties and is to replace the existing unexecuted Service Agreement.

Comment date: September 13, 2001, in accordance with Standard Paragraph E at the end of this notice.

14. IDACORP Energy, LP

[Docket No. ER01-2912-000]

Take notice that on August 22, 2001, IDACORP Energy LP is refiling its Notice of Succession. In addition, IDACORP Energy is filing its newly adopted tariff and service agreement containing designations consistent with Commission regulations.

Comment date: September 13, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-21979 Filed 8-30-01; 8:45 am]

BILLING CODE 6717-01-P